NUCLEAR REGULATORY COMMISSION

10 CFR Part 51

[NRC-2012-0246]

RIN 3150-AJ20

Generic Environmental Impact Statement for Continued Storage of Spent Nuclear Fuel

AGENCY: Nuclear Regulatory Commission.

ACTION: Generic environmental impact statement.

SUMMARY: Notice is hereby given that the U.S. Nuclear Regulatory Commission (NRC) has published the final generic environmental impact statement (GEIS), NUREG-2157, “Generic Environmental Impact Statement for Continued Storage of Spent Nuclear Fuel.” NUREG-2157 addresses the environmental impacts of continued storage of spent nuclear fuel beyond the licensed life for operations of a reactor and provides a regulatory basis for the NRC's final rule on the environmental impacts of continued storage of spent nuclear fuel beyond the licensed life for operations of a reactor.

DATES: The generic environmental impact statement is available September 19, 2014.

ADDRESSES: Please refer to Docket ID NRC-2012-0246 when contacting the NRC about the availability of information regarding this document. You may access publicly-available information related to this action by the following methods:

• Federal Rulemaking Web site: Go to http://www.regulations.gov and search for Docket ID NRC-2012-0246. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The two volumes of the final GEIS are available electronically in ADAMS under Accession Nos. ML14196A105 and ML14196A107.

• NRC's PDR: You may examine and purchase copies of public documents at the NRC's PDR, Room O1-F21, One White Flint North, 11555 Rockville Pike, Rockville, Maryland 20852.

In addition, the final GEIS may be accessed online at the NRC's Web page at: http://www.nrc.gov/reading-rm/doc-collections/nuregs/staff/.

FOR FURTHER INFORMATION CONTACT: Sarah Lopas, Office of Nuclear Material Safety and Safeguards, U.S. Nuclear Regulatory Commission, Washington, DC 20555-0001; telephone: 301-287-0675, email: Sarah.Lopas@nrc.gov.

SUPPLEMENTARY INFORMATION: In response to a ruling by the Court of Appeals for the District of Columbia Circuit (New York v. NRC, 681 F.3d 471) that vacated the NRC's former Waste Confidence rule (§ 51.23 of Title 10 of the Code of Federal Regulations (10 CFR)), the NRC developed a revised rule supported by a GEIS. NUREG-2157, “Generic Environmental Impact Statement for Continued Storage of Spent Nuclear Fuel” provides a regulatory basis for the final rule and generically determines the environmental impacts of continued storage of spent fuel beyond the licensed life for operation of a reactor (continued storage). Concurrently with this document, the NRC is publishing the final rule, “Continued Storage of Spent Nuclear Fuel” (RIN 3150-AJ20; NRC-2012-0246), in the Rules section of this issue of the Federal Register. The final rule codifies the results of the analyses in NUREG-2157 in 10 CFR 51.23 and makes other conforming changes to 10 CFR part 51.

The NRC prepared the GEIS to satisfy its National Environmental Policy Act obligations regarding the environmental impacts of continued storage. A notice of intent to prepare a draft environmental impact statement and conduct scoping was published in the Federal Register on October 25, 2012 (77 FR 65137). The draft GEIS notice of availability and public meetings, and request for comment, was published on September 13, 2013 (78 FR 56621). Additional draft GEIS public meeting notices were published on September 19, 2013 (78 FR 57538); October 29, 2013 (78 FR 64412; 78 FR 64413); and November 4, 2013 (78 FR 65903). An extension to the comment period was published on November 7, 2013 (78 FR 66858). The purpose of this notice is to inform the public that the final GEIS is available for public inspection.

Dated at Rockville, Maryland, this 10th day of September, 2014.
For the Nuclear Regulatory Commission.
Paul Michalak,
Acting Director, Waste Confidence Directorate, Office of Nuclear Material Safety and Safeguards.

[FR Doc. 2014-22250 Filed 9-18-14; 8:45 am]

BILLING CODE 7590-01-P